DEPARTMENT OF COMMERCE

International Trade Administration

Proposed Information Collection; Comment Request; Application for Export Trade Certificate of Review

AGENCY: International Trade Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 3, 2018.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to Export Trading Company Affairs, International Trade Administration, U.S. Department of Commerce, Room 21028, Washington, DC 20230. Phone: 202-482-5131. Email: etca@trade.gov.

SUPPLEMENTARY INFORMATION:

I. Abstract

Title III of the Export Trading Company Act (hereinafter “the Act”) of 1982 (Pub. L. 97-290, 15 U.S.C. 4001 et seq.), authorizes the Secretary of Commerce to issue, with the concurrence of the Attorney General, an Export Trade Certificate of Review to any person that establishes that its proposed export trade, export trade activities, and methods of operation meet the four standards found in Section 303(a) of the Act, 15 U.S.C. 4001 et seq. An Export Trade Certificate of Review provides the certificate holder and its members with limited antitrust preclearance for specified export-related activities. Application for an Export Trade Certificate of Review is voluntary. The information to be collected is found at 15 CFR part 325.3—Export Trade Certificates of Review. The collection of information is necessary for both the Departments of Commerce and Justice to conduct an analysis, in order to determine whether the applicant and its members are eligible to receive the protection of an Export Trade Certificate of Review and whether the applicant's proposed export-related conduct meets the standards in Section 303(a) of the Act. The collection of information constitutes the essential basis of the statutory determinations to be made by the Secretary of Commerce and the Attorney General.

The Department of Commerce conducts its economic and legal analysis of the information supplied by applicants through the Office of Trade and Economic Analysis and the Office of the General Counsel. In the Department of Justice, analysis is conducted by the Antitrust Division.

Title III was enacted to reduce uncertainty regarding the application of U.S. antitrust laws to export activities. An Export Trade Certificate of Review provides its holder and members named in the Certificate with (a) protection from government actions under state and federal antitrust laws for the export conduct specified in the Certificate, and (b) certain protection from private suits, by limiting liability in private actions to actual damages when the challenged activities are covered by an Export Trade Certificate of Review.

II. Method of Collection

The form is sent by request to U.S. firms.

III. Data

OMB Control Number: 0625-0125.

Form Number(s): ITA-4093P.

Type of Review: Regular submission.

Affected Public: Business or other for-profit organizations; not-for-profit institutions, and state, local or tribal government.

Estimated Number of Respondents: 9.

Estimated Time per Response: 32 hours (application); 2 hours (annual report).

Estimated Total Annual Burden Hours: 440 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-02078 Filed 2-1-18; 8:45 am]

BILLING CODE 3510-DR-P